DEPARTMENT OF COMMERCE

International Trade Administration

(A-588-850, A-588-851)

Certain Large Diameter Carbon and Alloy Seamless Standard, Line, and Pressure Pipe from Japan and Certain Small Diameter Carbon and Alloy Seamless Standard, Line, and Pressure Pipe from Japan: Notice of Rescission of Antidumping Duty Administrative Reviews

AGENCY: Import Administration, International Trade Administration, Department of Commerce.

ACTION: Notice of Rescission of Antidumping Duty Administrative Reviews.

EFFECTIVE DATE: November 22, 2002.

SUMMARY: On July 24, 2002, the Department of Commerce (the Department) published in the Federal Register (67 FR 48435) a notice announcing the initiation of administrative reviews of the antidumping duty orders on certain large diameter carbon and alloy seamless standard, line, and pressure pipe from Japan and certain small diameter carbon and alloy seamless standard, line, and pressure pipe from Japan, covering the period June 1, 2001, through May 31, 2002. These reviews were requested by United States Steel Corporation, a U.S. producer of the domestic like product of the merchandise under review. We are now rescinding these reviews as a result of United States Steel Corporation's withdrawal of its requests for administrative reviews.

FOR FURTHER INFORMATION CONTACT: Constance Handley or Carol Henninger, at (202) 482-0631 or (202) 482-3003, respectively; AD/CVD Enforcement, Office V, Group II, Import Administration, International Trade Administration, U.S. Department of Commerce, 14th Street & Constitution Avenue, NW, Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to 19 CFR Part 351 (April 2002).

Case History

On June 5, 2002, the Department published a notice of opportunity to request administrative reviews of the antidumping duty orders on certain large diameter carbon and alloy seamless standard, line, and pressure pipe from Japan and certain small diameter carbon and alloy seamless standard, line, and pressure pipe from Japan (67 FR 38640). On June 28, 2002, United States Steel Corporation in accordance with 19 CFR 351.213(b), requested administrative reviews of these orders for Sumitomo Metal Industries, Ltd., NKK Tubes, and Kawasaki Steel Corporation. On July 24, 2002, in accordance with 19 CFR 351.221(c)(1)(i), we initiated administrative reviews of these orders for the period June 1, 2001 through May 31, 2002 (67 FR 48435). On October 22, 2002, United States Steel Corporation withdrew its requests for these reviews.

Rescission of Review

The Department's regulations at 19 CFR 351.213(d)(1) provide that the Department will rescind an administrative review if the party that requested the review withdraws its request for review within 90 days of the date of publication of the notice of initiation of the requested review. The Department may extend the time limit for withdrawing the request if it determines that it is reasonable to do so. United States Steel Corporation was the only party to request these reviews, and it has withdrawn its requests within the 90-day period. Accordingly, we are rescinding these reviews. The Department will issue appropriate assessment instructions to the U.S. Customs Service within 15 days of publication of this notice.

This notice is issued and published in accordance with section 751 of the Act (19 U.S.C. 1675) and 19 CFR 351.213(d)(4).

Dated: November 15, 2002.
Holly A. Kuga,
Acting Deputy Assistant Secretary for Import Administration.

[FR Doc. 02-29791 Filed 11-21-02; 8:45 am]

BILLING CODE 3510-DS-S